DEPARTMENT OF THE INTERIOR

[RC0ZCUPCA0, 177R0680R1, RR.17549897.2017000.01]

Office of the Assistant Secretary—Water and Science; Notice of Termination of a Lease of Power Privilege Process for the Spanish Fork Flow Control Structure of the Central Utah Project

AGENCY: Central Utah Project Completion Act Office, Interior.

ACTION: Notice.

SUMMARY: The Department of the Interior is announcing the termination of a lease of power privilege process for the Spanish Fork Flow Control Structure of the Central Utah Project located in Utah County, Utah.

FOR FURTHER INFORMATION CONTACT: Additional information related to this Federal Register Notice may be obtained by contacting Mr. Lee Baxter, Program Coordinator, Central Utah Project Completion Act Office, Department of the Interior, 302 East 1860 South, Provo, Utah 84606; (801) 379-1174; lbaxter@usbr.gov.

SUPPLEMENTARY INFORMATION: The process for non-Federal development of hydroelectric power at the Spanish Fork Flow Control Structure was established through a Federal Register Notice (Notice) published May 11, 2011. The Notice announced the Department of the Interior's intent to consider proposals for non-Federal development of hydroelectric power at the Spanish Fork Flow Control Structure of the Central Utah Project. The Notice presented background information, proposal content guidelines, information concerning the selection of a non-Federal entity to develop hydroelectric power at the Spanish Fork River Flow Control Structure, and power purchasing and/or marketing considerations. The Notice also established the deadline for a potential lessee to enter into a lease with the United States as 5 years after notification of the selection of a potential lessee.

On October 13, 2011, a joint proposal from the Central Utah Water Conservancy District, Strawberry Water Users Association, and the South Valley Electric Service District was received in response to the Notice. The joint proposal was reviewed by an evaluation team comprised of specialists from the Bureau of Reclamation, Western Area Power Administration, and the Bonneville Power Administration.

Based upon the recommendation from the evaluation team, the joint proposal was selected by the Department of the Interior as the potential lessee for non-Federal power development at the Spanish Fork Flow Control Structure. The joint applicants were notified of this decision by correspondence dated March 9, 2012, and were given a deadline of March 9, 2017, to enter into a lease with the United States.

The deadline for entering into a lease has now passed and a lease was not negotiated and executed with the Department of the Interior. As a result, the Department of the Interior has rescinded the selection of Central Utah Water Conservancy District, Strawberry Water Users Association, and the South Valley Electric Service District as the successful potential joint lessee and has terminated this lease of power privilege process for the Spanish Fork Flow Control Structure.

Future non-Federal development of hydroelectric power at the Spanish Fork Flow Control Structure would be considered upon request from interested parties. However, no formal request for proposals is being made by the Department of the Interior at this time.

Dated: June 21, 2017.
Reed R. Murray,
Program Director, Department of the Interior.

[FR Doc. 2017-13403 Filed 6-26-17; 8:45 am]

BILLING CODE 4332-90-P